CORPORATION FOR NATIONAL AND COMMUNITY SERVICE

Agency Information Collection Activities; Submission to the Office of Management and Budget for Review and Approval; Comment Request; Application Package for AmeriCorps VISTA Application and Reporting Forms

AGENCY: Corporation for National and Community Service.

ACTION: Notice of information collection; request for comment.

SUMMARY: The Corporation for National and Community Service (operating as AmeriCorps) has submitted a public information collection request (ICR) entitled Application Package for AmeriCorps VISTA Application and Reporting Forms for review and approval in accordance with the Paperwork Reduction Act.

DATES: Written comments must be submitted to the individual and office listed in the ADDRESSES section by April 30, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Kelly Daly at 202-606-6849 or by email to kdaly@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 30, 2020 at Vol. 85, No. 230, Page 76542. This comment period ended January 29, 2021. Zero public comments were received from this Notice.

Title of Collection: Application Package for AmeriCorps VISTA Application and Reporting Forms.

OMB Control Number: 3045-0038.

Type of Review: Renewal.

Respondents/Affected Public: Organizations and State, Local or Tribal Governments.

Total Estimated Number of Annual Responses: 850.

Total Estimated Number of Annual Burden Hours: 20,450.

Abstract: AmeriCorps is revising its VISTA application and reporting forms to remove duplicative questions, improve readability, and reflect changes in reporting requirements, including a reduction in frequency of programmatic reporting.

Dated: March 25, 2021.
Margery Ansara,
Director, AmeriCorps VISTA.

[FR Doc. 2021-06574 Filed 3-30-21; 8:45 am]

BILLING CODE 6050-28-P